NATIONAL SCIENCE FOUNDATION

Notice of Permit Modification Received Under the Antarctic Conservation Act of 1978

AGENCY: National Science Foundation.

ACTION: Notice of Permit Modification Request Received and Permit Issued under the Antarctic Conservation Act of 1978, Public Law 95-541.

SUMMARY: The National Science Foundation (NSF) is required to publish a notice of requests to modify permits issued to conduct activities regulated and permits issued under the Antarctic Conservation Act of 1978. NSF has published regulations under the Antarctic Conservation Act at Title 45 Part 670 of the Code of Federal Regulations. This is the required notice of a requested permit modification and permit issued.

DATES: September 16, 2015 to August 31, 2017.

FOR FURTHER INFORMATION CONTACT: Li Ling Hamady, ACA Permit Officer, Division of Polar Programs, Rm. 755, National Science Foundation, 4201 Wilson Boulevard, Arlington, VA 22230. Or by email: ACApermits@nsf.gov.

SUPPLEMENTARY INFORMATION: The Foundation issued a permit (ACA 2013-019) to Celia Lang, Lockheed Martin IS&GS on October 15, 2012. The issued permit allows the applicant to enter various ASPAs for environmental reasons.

A recent modification to this permit, dated November 11, 2014, permitted the applicant to enter Cape Hallett in November 2014.

Now the applicant proposes a modification to the permit to add the following ASPAs to the list for possible entry to: Barwick Valley (123), Lowe Taylor Glacier and Blood Falls (172), Cape Hallett (106), Cape Shirreff (149), Litchfield Island (113), and Biscoe Point (139). The Environmental Officer has reviewed the modification request and has determined that the amendment is not a material change to the permit, and it will have a less than a minor or transitory impact.The permit modification was issued on September 16, 2015.

Nadene G. Kennedy,
Polar Coordination Specialist, Division of Polar Programs.

[FR Doc. 2015-23570 Filed 9-18-15; 8:45 am]

BILLING CODE 7555-01-P